DEPARTMENT OF AGRICULTURE

Forest Service

Kelsey Vegetation Management Project, Deschutes National Forest, Deschutes County, OR

AGENCY: Forest Service, USDA.

ACTION: Notice of intent to prepare an environmental impact statement.

SUMMARY: The USDA, Forest Service, will prepare an environmental impact statement (EIS) on a proposed action to improve forest health conditions within the 46,175-acre Kelsey planning area. An analysis was initiated to assess tree density and hazardous fuels and associated forest related concerns of wildfire, insect infestations, and disease pathogens. Methods that would be used to reduce tree density and hazardous fuels are: Non-commercial and commercial thinning, mechanical shrub treatment, and prescribed burning. The planning area is located adjacent to the southern urban growth boundary of Bend, Oregon, east and adjacent to the Deschutes River and the community of Sunriver, north of Forest Road 9720, and west of Forest Road 1810. The planning area is a combination of public lands (99%), managed by the Deschutes National Forest, and private lands (1%). The alternatives will include the proposed action, no action, and additional alternatives that respond to issues generated through the scoping process. The agency will give notice of the full environmental analysis and decision-making process so interested and affected public may participate and contribute to the final decision.

DATES: Comments concerning the scope of the analysis must be received by 30 days following the date that this notice appears in the Federal Register.

ADDRESSES: Send written comments to Kristin M. Bail, Acting District Ranger, Bend-Fort Rock Ranger District, Red Oaks Square, 1230 NE Third Street Suite A-262, Bend, Oregon 97701.

FOR FURTHER INFORMATION CONTACT: David Frantz, Writer/Editor, Bend-Fort Rock Ranger District, Red Oaks Square, 1230 NE Third Street Suite A-262, Bend, Oregon 97701, phone (541) 383-4721. E-mail dfrantz@fs.fed.us.

Responsible Official: The responsible official will be Leslie Weldon, Forest Supervisor, Deschutes National Forest, P.O. Box 1645 Hwy 20 East, Bend, OR 97701.

SUPPLEMENTARY INFORMATION: Background. The analysis of the 46,175-acre Kelsey planning area was initiated in 1999. The planning area includes wildland urban interface, winter deer habitat, key elk habitat, the Upper Deschutes Wild and Scenic River, and the Newberry National Volcanic Monument. In July 2003, the 18 Fire burned approximately 3,520 acres within the planning area along the northeast boundary. The area within the fire perimeter was analyzed separately in the 18 Fire Salvage Recovery Project EIS.

The Kelsey planning area is located within the dry eastside forests of central Oregon. Large ponderosa pine (greater than 21″ in diameter) once dominated the landscape. During the 1930s and 1940s, this area was owned and clearcut by private commercial enterprises, leaving few residual individual large trees and very few small stands of larger, older ponderosa pine. The Forest Service acquired these private lands during the ensuing years. The area now consists primarily of an even-aged, single story, black bark ponderosa pine forest with encroaching lodgepole pine. The average size of the ponderosa pine is approximately 12 inches in diameter at breast height (dbh), with much of the tree size within the 9 to 14 inch dbh range. Less than one (1) percent of the planning area is classified as large, old growth ponderosa pine. Highly flammable shrubs are the primary understory vegetation throughout the planning area and beyond. As a result of suppression of wildlife for approximately 90 years, large contiguous areas of dense shrubs can spread fire into the tree canopy.

Desired Condition. To provide a sustainable forest, one where disturbances such as wildfire, insects, and disease occurrences are more typical of a properly functioning eastside forest.

Purpose and Need. Low intensity wildfire frequently burned the eastside ponderosa forest ecosystem with a fire interval of generally less than 30 years, reducing stand density and natural fuels. The combination of fire suppression since the early 1900s and clear cutting has created a scenario with uncharacteristically high stand density and fuels when compared to an historical eastside forest.

Because of high tree density across much of the analysis area, a more destructive crown fire could be sustained, including areas adjacent to the wildland urban interface. Also, due to the lack of a historical frequent and low intensity fire regime, large, contiguous areas of bitterbrush provide potential high hazard fuels. Remnant, large ponderosa pine that would ordinarily be fire resistant are placed at risk because of increased competition with lodgepole pine and increased ground to crown ladder fuels. In addition to the potential for large, uncharacteristic wildfire, tree mortality from insects and disease is becoming evident and stands are becoming susceptible due to high stand density and periods of low precipitation.

The purpose and need of the project is to address opportunities for protecting and enhancing the forest ecosystem within the Kelsey planning area, including:

• Provide this fire-dependent ecosystem with a landscape that is capable for sustaining a characteristic low intensity wildfire.

• Reduce tree density to assist in a transition toward a forest ecosystem that is more resilient and resistant to disturbance.

• Protect and accelerate development of late and old structure trees.

• Provide stand structural diversity in even-aged stands to provide future big game habitat.

• Utilize opportunities that result from vegetation management activities to offset costs and provide products to stimulate the economy.

Proposed Action. The proposed action includes non-commercial and commercial thinning of conifers less than 21 inches diameter at breast height to reduce tree stand density (5,495 acres); Reducing the shrub component to fragment high hazard fuels, including preparing stands for careful application of prescribed fire (8,955 acres); Creating small openings and replanting to provide areas for future deer forage and vertical stand diversity (260 acres).

Issues. Preliminary issues include the potential effect of the proposed action on cultural resources, developed and dispersed recreation, noxious weeds, air quality, water quality, and wildlife habitat.

Comment. Public comments regarding this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision in accordance with 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and available for public review by July 15, 2005. The EPA will publish a Notice of Availability (NOA) of the draft EIS in the Federal Register. The final EIS is scheduled to be available October 24, 2005.

The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningful consider them and respond to them in the final EIS.

To assist the Forest Service in identifying and considering issues and concerns on the proposed action, comments on the draft EIS should be as specific as possible. It is also help if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Deschutes National Forest. The responsible official will decide where and whether or not to apply natural fuels treatments, thin stands, and reforest group cuts. The responsible official will also decide how to mitigate impacts of these actions and will determine when and how monitoring of effects will take place.

The Kelsey Vegetation Management decision and the reasons for the decision will be documented in the record of decision. That decision will be subject to Forest Service Appeal Regulations (35 CFR Part 215).

Dated: March 16, 2005.
Kevin Martin,
Deputy Forest Supervisor, Deschutes National Forest.

[FR Doc. 05-5292 Filed 3-17-05; 8:45 am]

BILLING CODE 3410-11-M